NUCLEAR REGULATORY COMMISSION

Atomic Safety and Licensing Board Panel

[Docket No. 50-213-OLA ASLBP No. 01-787-02-OLA]

Before Administrative Judges: Ann Marshall Young, Chair, Dr. Peter S. Lam, Thomas D. Murphy; In the Matter of Connecticut Yankee Atomic Power Company (Haddam Neck Plant); Notice of Hearing

July 12, 2001.

This proceeding concerns a license amendment application of Connecticut Yankee Atomic Power Company (CYAPCO), seeking to add a new license condition to approve a License Termination Plan (LTP) for its Haddam Neck Plant pursuant to 10 CFR 50.82(a)(9), (10), and allow CYAPCO to make changes to the approved LTP without prior NRC approval if certain criteria specified in the license condition are met. After a public meeting held October 17, 2000, NRC Staff proposed to determine that the amendment request involves no significant hazards consideration under 10 CFR 50.92(c), and provided notice of this finding and of the opportunity for a hearing with regard to the amendment request. 65 FR 77913 (Dec. 13, 2000). In response to this notice, the Citizens Awareness Network (CAN) and the Connecticut Department of Public Utility Control (CDPUC) filed requests for hearing dated January 11 and 17, 2001, respectively. On January 31, 2001, an Atomic Safety and Licensing Board, consisting of the members listed above, was established to preside over this proceeding. 66 FR 9111 (Feb. 6, 2001).

Notice is hereby given that, by Memorandum and Order dated July 9, 2001, the Board granted Petitioners CAN and CDPUC a hearing, after holding oral argument in a series of prehearing conferences on the contentions and arguments of the Petitioners, CYAPCO and the NRC Staff. In this Memorandum and Order, the Board found that both CAN and CDPUC have standing to proceed, and admitted contentions relating to adequacy of the site characterization, scope of work required to meet the requirements of the rules, dose calculations, and water contamination.

This proceeding will be conducted under the Commission's hearing procedures set forth in 10 CFR part 2, subpart G. During the course of the proceeding, the Board may conduct additional oral argument as provided in 10 CFR 2.755, hold additional prehearing conferences pursuant to 10 CFR 2.752, and conduct an evidentiary hearing in accordance with 10 CFR 2.750-.751. The time and place of these sessions will be announced in Licensing Board Orders. Except as limited by the parameters of telephone conferences (which will in any event be transcribed), members of the public are invited to attend any such sessions.

Additionally, as provided in 10 CFR 2.715(a), any person not a party to the proceeding may submit a written limited appearance statement setting forth his or her position on the issues in the proceeding. Persons wishing to submit a written limited appearance statement should send it to the Office of the Secretary, U.S. Nuclear Regulatory Commission, Washington, DC 20555, Attention: Rulemakings and Adjudications Staff. A copy of the statement should also be served on the Chairman of the Atomic Safety and Licensing Board. At a later date, the Board will entertain oral limited appearance statements at a location or locations in the vicinity of the Haddam Neck Plant, which is located approximately 21 miles southeast of Hartford, Connecticut, on the east bank of the Connecticut River. Notice of these oral limited appearance sessions will be published in the Federal Register and/or made available to the public at the NRC Public Document Room.

Documents related to this proceeding are available electronically through the Agencywide Documents access and Management System (ADAMS), with access to the public through the NRC's Internet Web site (Public Electronic Reading Room Link, http://www.nrc.gov/NRC/ADAMS/index.html). The NRC Public Documents Room (PDR) and many public libraries have terminals for public access to the Internet. Documents that may relate to this proceeding that are dated earlier than December 1, 1999, are available in microfiche form (with print form available on one-day recall) for public inspection at the PDR, Room 0-1 F21, NRC One White Flint North, 11555 Rockville Pike, Rockville, Maryland 20852-2738.

Dated: July 12, 2001.
For the Atomic Safety and Licensing Board.
Ann Marshall Young,
Chair, Administrative Judge.

[FR Doc. 01-17952 Filed 7-17-01; 8:45 am]

BILLING CODE 7590-01-M